DEPARTMENT OF THE INTERIOR

National Park Service

[NPS-NERO-CACO-18771; PPNECACOS0, PPMPSD1Z.YM0000]

Notice of September 14, 2015, Meeting for Cape Cod National Seashore Advisory Commission

AGENCY: National Park Service, Interior.

ACTION: Meeting notice.

SUMMARY: This notice sets forth the date of the 299th Meeting of the Cape Cod National Seashore Advisory Commission.

DATES: The public meeting of the Cape Cod National Seashore Advisory Commission will be held on Monday, September 14, 2015, at 1:00 p.m. (EASTERN).

ADDRESSES: The 299th meeting of the Cape Cod National Seashore Advisory Commission will take place on Monday, September 14, 2015, at 1:00 p.m., in the conference room at park headquarters, 99 Marconi Station Road, in Wellfleet, Massachusetts 02667 to discuss the following:

1. Adoption of Agenda

2. Approval of Minutes of Previous Meeting (March 30, 2015)

3. Reports of Officers

4. Reports of Subcommittees

Update of Pilgrim Nuclear Plant Emergency Planning Subcommittee State Legislation Proposals

5. Superintendent's Report

Shorebird Management Plan/Environmental Assessment

Nauset Spit Update

National Park Service Centennial

Improved Properties/Town Bylaws

Herring River Wetland Restoration

Highlands Center Update

Ocean Stewardship Topics—Shoreline Change

Climate Friendly Parks

6. Old Business

Live Lightly Campaign Progress Report

7. New Business

8. Date and Agenda for Next Meeting

9. Public Comment

10. Adjournment

FOR FURTHER INFORMATION CONTACT: Further information concerning the meeting may be obtained from George E. Price, Jr., Superintendent, Cape Cod National Seashore, 99 Marconi Site, Wellfleet, MA 02667, or via telephone at (508) 771-2144.

SUPPLEMENTARY INFORMATION: The Commission was reestablished pursuant to Public Law 87-126, as amended by Public Law 105-280. The purpose of the Commission is to consult with the Secretary of the Interior, or her designee, with respect to matters relating to the development of Cape Cod National Seashore, and with respect to carrying out the provisions of sections 4 and 5 of the Act establishing the Seashore.

The meeting is open to the public. It is expected that 15 persons will be able to attend the meeting in addition to Commission members. Interested persons may make oral/written presentations to the Commission during the business meeting or file written statements. Such requests should be made to the park superintendent prior to the meeting. Before including your address, telephone number, email address, or other personal identifying information in your comment, you should be aware that your entire comment—including your personal identifying information—may be made publicly available at any time. While you may ask us in your comment to withhold your personal identifying information from public review, we cannot guarantee that we will be able to do so.

Dated: August 4, 2015.
Alma Ripps,
Chief, Office of Policy.

[FR Doc. 2015-19640 Filed 8-10-15; 8:45 am]

BILLING CODE 4310-EE-P